DEPARTMENT OF DEFENSE

Office of the Secretary

[Docket ID: DoD-2014-OS-0044]

Privacy Act of 1974; System of Records

AGENCY: Office of the Secretary of Defense, DoD.

ACTION: Notice to alter a System of Records.

SUMMARY: The Office of the Secretary of Defense proposes to alter a system of records, DWHS E06 DoD, entitled “Correspondence and Task Management System (CATMS)”, in its inventory of record systems subject to the Privacy Act of 1974, as amended. This system is comprised of the Correspondence Management Division module (CMD module) and the Task Management Tracker tool (TMT) which support the functions of the Department of Defense by maintaining a record of actions taken and responses to the President, White House staff, other Cabinet officials, Congress, state and local officials, corporate officials, members of the Department of Defense and the public. The CMD module supports the Secretary of Defense for the control and tracking of actions taken and responses from the Secretary to the President, White House staff, other Cabinet officials, Congress, state and local officials, corporate officials, members of the Department of Defense and the public. This includes full life-cycle management from receipt, control of metadata and image, tasking the OSD Components, Joint Staff, Services and other DoD agencies for action and records management. The TMT is used by component Offices of the Secretary of Defense to process and manage the staffing and coordination of actions to, from, and within components in the conduct of official daily business.

DATES: Comments will be accepted on or before May 9, 2014. This proposed action will be effective the date following the end of the comment period unless comments are received which result in a contrary determination.

ADDRESSES: You may submit comments, identified by docket number and title, by any of the following methods:

* Federal Rulemaking Portal: http://www.regulations.gov. Follow the instructions for submitting comments.

* Mail: Federal Docket Management System Office, 4800 Mark Center Drive, East Tower, 2nd Floor, Suite 02G09, Alexandria, VA 22350-3100.

Instructions: All submissions received must include the agency name and docket number for this Federal Register document. The general policy for comments and other submissions from members of the public is to make these submissions available for public viewing on the Internet at http://www.regulations.gov as they are received without change, including any personal identifiers or contact information.

FOR FURTHER INFORMATION CONTACT: Ms. Cindy Allard, Chief, OSD/JS Privacy Office, Freedom of Information Directorate, Washington Headquarters Service, 1155 Defense Pentagon, Washington, DC 20301-1155, or by phone at (571) 372-0461.

SUPPLEMENTARY INFORMATION: The Office of the Secretary of Defense notices for systems of records subject to the Privacy Act of 1974 (5 U.S.C. 552a), as amended, have been published in the Federal Register and are available from the address in FOR FURTHER INFORMATION CONTACT or at the Defense Privacy and Civil Liberties Office Web site at http://dpclo.defense.gov/. The proposed system report, as required by U.S.C. 552a(r) of the Privacy Act of 1974, as amended, was submitted on March 18, 2014, to the House Committee on Oversight and Government Reform, the Senate Committee on Governmental Affairs, and the Office of Management and Budget (OMB) pursuant to paragraph 4c of Appendix I to OMB Circular No. A-130, “Federal Agency Responsibilities for Maintaining Records About Individuals,” dated February 8, 1996 (February 20, 1996, 61 FR 6427).

Dated: April 3, 2014.
Aaron Siegel,
Alternate OSD Federal Register Liaison Officer, Department of Defense.

DWHS E06

System name:

Enterprise Correspondence Control System (ECCS) (September 13, 2012, 77 FR 56629).

Changes:

System name:

Delete entry and replace with “Correspondence and Task Management System (CATMS).”

System location:

Delete entry and replace with “Correspondence Management Division, Executive Services Directorate, Washington Headquarters Services, 1155 Defense Pentagon, Washington, DC 20301-1155.”

Categories of individuals covered by the system:

Delete entry and replace with “Individuals who either initiated, or are the subject of communications with the Office of the Secretary of Defense and individuals who are the subject of personnel and staffing packages coordinated in CATMS.”

Categories of records in the system:

Delete entry and replace with “The Correspondence Management Division module (CMD module) may contain the name (last name and first initial) and contact information (mailing address, telephone number, fax number, email address) of individuals writing to the Secretary of Defense. Types of correspondence typically include inquiries and other communications pertaining to any matter under the cognizance of the Secretary of Defense such as complaints, appeals, grievances, requests for investigations, alleged improprieties, personnel actions, medical reports, intelligence, and related matters associated with the mission and business activities of the department. They may be either specific or general in nature and include such personal information as an individual's name, Social Security Number (SSN), date and place of birth, description of events or incidents of a sensitive or privileged nature, commendatory or unfavorable data.

The Task Management Tracker tool (TMT) tracks the tasking and coordination of responses for CMD module as well as staff packages pertaining to members of the military, civilian DoD employees and contractors. Examples of such packages include assignment requests, awards, nominations, promotions, and presidential support letters; condolence letters, retirement letters and letters of appreciation; Senior Executive Service letters and pay adjustments, appointment letters, certificates, Secretary of Defense letters of appreciation, travel requests, military airlift requests, and similar staff actions.”

Authority for maintenance of the system:

Delete entry and replace with “10 U.S.C. 113, Secretary of Defense; DoD Directive 5105.53, Director of Administration and Management (DA&M); DoDD 5110.04, Washington Headquarters Services (WHS); and E.O. 9397 (SSN), as amended.”

Purpose(s):

Delete entry and replace with “The CATMS is comprised of the CMD and the TMT which support the functions of the Department of Defense by maintaining a record of actions taken and responses to the President, White House staff, other Cabinet officials, Congress, state and local officials, corporate officials, members of the Department of Defense and the public. The CMD module supports the Secretary of Defense for the control and tracking of actions taken and responses from the Secretary to the President, White House staff, other Cabinet officials, Congress, state and local officials, corporate officials, members of the Department of Defense and the public. This includes full life-cycle management from receipt, control of metadata and image, tasking the OSD Components, Joint Staff, Services and other DoD agencies for action and records management.

The TMT is used by component Offices of the Secretary of Defense to process and manage the staffing and coordination of actions to, from, and within components in the conduct of official daily business.”

Routine uses of records maintained in the system, including categories of users and the purposes of such uses:

Delete entry and replace with “In addition to the disclosures generally permitted under 5 U.S.C. 552a(b) of the Privacy Act of 1974, as amended, the records contained herein may specifically be disclosed outside the DoD as a routine use pursuant to 5 U.S.C. 552a(b)(3) as follows:

The DoD Blanket Routine Uses set forth at the beginning of the Office of the Secretary of Defense (OSD) compilation of systems of records notices may apply to this system.”

Policies and practices for storing, retrieving, accessing, retaining, and disposing of records in the system:

Storage:

Delete entry and replace with “Electronic storage media.”

* * * * *

Safeguards:

Delete entry and replace with “Records are maintained in a controlled facility. Physical entry is restricted by the use of multiple locks, guards, intrusion detection system, and is accessible only to authorized personnel. Access to records is limited to person(s) responsible for servicing the record in performance of their official duties and who are properly screened and cleared for need-to-know. Multi-factor authentication is required to access CATMS. Role-based security is in place to allow only the person(s) associated with the specific staff action access to the data. Records are protected with strong Secure Socket Layer encryption and backups are encrypted and stored off-site. Periodic security audits are conducted. All users are required to complete Information Assurance and Privacy training annually.”

Retention and disposal:

Delete entry and replace with “Routine Personnel Staff Actions: 1-7 years and destroyed.

Mission Related Significant Correspondence Actions: 7 years-Permanent. Permanent records are generally retained for a minimum of 25 years before being transferred to NARA.”

* * * * *

Notification procedure:

Delete entry and replace with “Individuals seeking to determine whether information about themselves is contained in this system should address written inquiries to the Chief, Correspondence Management Division, Executive Services Directorate, Washington Headquarters Services, 1155 Defense Pentagon, Washington, DC 20301-1155.

The requests should contain the individual's last name and first initial, subject, and document date.”

Record access procedures:

Delete entry and replace with “Individuals seeking access to records about themselves contained in this system of records should address written inquiries to the Office of the Secretary of Defense/Joint Staff Freedom of Information Act, Requester Service Center, Office of Freedom of Information, 1155 Defense Pentagon, Washington, DC 20301-1155.

Signed, written requests should include the individuals last name and first initial, subject, date of document (date of correspondence) and the name and number of this system of records notice.”

Contesting record procedures:

Delete entry and replace with “The OSD rules for accessing records, for contesting contents and appealing initial agency determinations are published in OSD Administrative Instruction 81; 32 CFR part 311; or may be obtained from the system manager.”

Record source categories:

Delete entry and replace with “Individuals sending correspondence to the Secretary of Defense and other high level DoD officials and official records used in developing responses or staff packages.”

* * * * *

[FR Doc. 2014-07846 Filed 4-8-14; 8:45 am]

BILLING CODE 5001-06-P